DEPARTMENT OF THE INTERIOR

Fish and Wildlife Service

Information collection to be submitted to the Office of Management and Budget (OMB) for approval under the Paperwork Reduction Act (PRA)

ACTION: Information collection renewal.

SUMMARY: The U.S. Fish and Wildlife Service (Service) plans to submit the collection of information requirement described below to the Office of Management and Budget (OMB) for approval under the provisions of the Paperwork Reduction Act (PRA). You may obtain copies of the collection requirement and related forms and explanatory material by contacting the Service's Information Collection Clearance Officer at the phone number listed below. The Service is soliciting comment and suggestions on the requirement as described below.

DATES: Interested parties must submit comments on or before November 6, 2000.

ADDRESSES: Interested parties should send comments and suggestions on the requirement to Rebecca A. Mullin, Information Collection Clearance Officer, U.S. Fish and Wildlife Service, 4401 North Fairfax Drive, Suite 222, Arlington, VA 22203, (703) 358-2278 or Rebecca_Mullin@fws.gov E-mail.

FOR FURTHER INFORMATION CONTACT: Jack Hicks, (703) 358-1851, fax (703) 358-1837, or Jack_Hicks@fws.gov E-mail.

SUPPLEMENTARY INFORMATION: Title of Forms: Federal Aid Grant Application Booklet.

OMB Approval Number: The Service will submit to OMB an approval request before collecting information.

Description and Use: The Service administers several grant programs authorized by the Federal Aid in Wildlife Restoration Act, the Federal Aid in Sport Fish Restoration Act, the Anadromous Fish Conservation Act, the Endangered Species Act, the Clean Vessel Act, the Sportfishing and Boating Safety Act, and the Coastal Wetlands Planning, Protection and Restoration Act. The Service uses the information collected to make awards within these grant programs. This includes determining if the estimated cost is reasonable, the cost sharing is consistent with the applicable program statutes, and other vital information collected through proposals submitted by grant applicants. The State or other grantee uses the booklet as a guide for writing complete proposals including; work proposed, providing specific budget information, identifying proposed cost sharing, and partners if any. The information collected through this document also satisfy special requirements for various approvals for National Environmental Policy Act, National Historic Preservation Act, and other Acts pertaining to grants management in the Federal government. Grant applicants provide the information requested in the Federal Aid Grant Application Booklet in order to receive benefits in the form of grants for purposes outlined in the applicable law. The Service uses the Federal Aid Grant Application Booklet to request complete information needed to determine the eligibility, cost, scope, and appropriateness of the grant applied for. This booklet is designed to cause the minimum impact in the form of hourly burden on grant applicants and still get all the required information.

Supplemental Information: The service plans to submit the following information collection requirements to OMB for review and approval under the Paperwork Reduction Act of 1995, Public Law 104-13. Comments are invited on (1) whether the collection of information is necessary for the proper performance of the functions of the agency, including whether the information will have practical utility; (2) the accuracy of the agency's estimates of burden of the collection of information; (3) ways to enhance the quality, utility, and clarity of the information to be collected; and, (4) ways to minimize the burden of collection of information on respondents, including through the use of appropriate automated, electronic, mechanical, or other technological collection techniques or other forms of information technology.

Frequency: Generally annually.

Description of Respondents: State Government, territorial (the Commonwealth of Puerto Rico, the District of Columbia, the Commonwealth of the Northern Mariana Islands, Guam, the Virgin Islands, and American Samoa), local governments, and other receiving grant funds.

Completion Time and Annual Response and Burden Estimate
Form name | Completion time per application (in hrs.) | Annual response in narrative format | Annual burden (in hrs.)
Grant Application Booklet | 80 | 3,500 | 280,000
Amendment to Grant Agreement | 4 | 1,750 | 7,000
Totals |  | 5,250 | 287,000

Application Booklet for Federal Aid Grants

Part 1 (Cover)

Department of the Interior, U.S. Fish and Wildlife Service, Division of Federal Aid, Grant Programs

Authorized Under the Following Acts

Federal Aid in Sport Fish Restoration Act (16 U.S.C. 777-7771)

Federal Aid in Wildlife Restoration Act (16 U.S.C. 669-669i)

Partnerships for Wildlife Act (16 U.S.C. 3741)

Coastal Wetlands Planning, Protection and Restoration Act (16 U.S.C. 3954)

Endangered Species Act, Sec 6(h) (16 U.S.C. 1361)

Clean Vessel Act of 1992 (16 U.S.C. 777)

Covering the Following Types of Projects and Grants

Sport Fish Restoration Projects

Wildlife Restoration Projects

Coastal Wetland Restoration

Clean Vessel Pumpout Projects

Outreach and Communications Projects (RBFF Only)

Boating Infrastructure

Partnerships for Wildlife

Endangered Species, Sec 6(h)

Land Acquisition

Coordination

Strategic Planning

Comprehensive Management

Surveys and Inventories

Training and Education

Facilities Development

Construction

Operations and Maintenance

Development

Research

Single and Multi-Project

Habitat and Population Management

Hunter and Aquatic Education

Part 2 (inside front cover)

Draft Information Collection Statement

Information Collection Statement: In accordance with the Paperwork Reduction Act (44 U.S.C. 3501) please note the following information. This information collection is authorized by the Federal Aid in Sport Fish Restoration Act (16 U.S.C. 777-777l), Federal Aid in Wildlife Restoration Act (16 U.S.C. 669-669i), Partnerships for Wildlife Act (16 U.S.C. 3741), and the Coastal Wetlands Planning, Protection and Restoration Act (16 U.S.C. 3954). This information collection covers the following types of grant programs: Sport Fish Restoration, Wildlife Restoration, Coastal Wetland Restoration, Clean Vessel, Outreach and Communications, Boating Infrastructure, Partnerships for Wildlife and Endangered Species [Sec 6(h)]. We are collecting this information relevant to the eligibility, substantiality, relative value, and budget information from applicants in order to make awards of grants under these programs. We are collecting financial and performance information to track cost and accomplishments of these grant programs. Completion of these application and reporting requirements will involve a paperwork burden of approximately 80 hours per grant. Your response to this information collection is voluntary, but necessary to receive benefits in the form of a Grant, and does not carry any premise of confidentiality. An agency may not conduct or sponsor; and a person is not required to respond to, a collection of information unless it displays a currently valid OMB control number. This information collection has been approved by OMB and assigned control number 1018-XXXX. The public is invited to submit comments on the accuracy of the estimated average burden hours for application preparation, and to suggest ways in which the burden may be reduced. Comments may be submitted to: Information will be provided in final printing only.

Part 3

Who is eligible to participate in these grant programs and for what purpose? We work with several programs, they are listed below, along with their individual purpose and eligible recipients.

Federal Aid in Wildlife Restoration Programs: Any State fish and wildlife agency of the 50 States and the District of Columbia, the Commonwealth of Puerto Rico, the Commonwealth of the Northern Mariana Islands, Guam, the United States Virgin Islands, and American Samoa. The purpose of the Wildlife Restoration grants must be for restoration, conservation, management, and enhancement of wild birds and wild mammals, and providing for public use and benefit from these resources. Eligible activities include: educating responsible hunters, shooters and archers in skills, knowledge, and attitudes regarding the safety in firearms, public target ranges development, operations and maintenance either archery or firearm, and activities to increase awareness of benefits, accomplishments, and opportunities created by this program.

The Sport Fish Restoration Programs: Any State fish and wildlife agency of the 50 States and the District of Columbia, the Commonwealth of Puerto Rico, the Commonwealth of the Northern Mariana Islands, Guam, the United States Virgin Islands, and American Samoa. Grants must be for the restoration, conservation, management, and enhancement of sport fish, and the provision or public use of and benefits from these resources. Sport fish, by definition, are limited to aquatic, gill breathing, vertebrate animals bearing paired fins, and having material value for sport or recreation. Also eligible are grants which address the enhancement of the public's understanding of water resources and aquatic life forms, and the development of responsible attitudes towards the aquatic environment. Also eligible are activities related to increasing benefits, accomplishments, and opportunities created by this program.

Coastal Wetland Restoration projects: Any State agency designated by the Governor of a coastal State to participate on behalf of the State is eligible. A coastal State is any State bordering on the Atlantic, the Pacific, or the Arctic Ocean, the Gulf of Mexico, Long Island Sound, or one or more of the Great Lakes. The Commonwealth of Puerto Rico, the United States Virgin Islands, Guam, the Commonwealth of the Northern Mariana Islands, the Trust Territory of the Pacific Islands, and American Samoa are also eligible. Coastal wetlands conservation grants must be for the long-term conservation of lands and waters, hydrology, water quality and fish and wildlife that depend upon these lands and waters. For the Coastal Wetlands Conservation Program, grant work must be in the first tier of counties along the coast of any State except Louisiana.

Clean Vessel projects: Any State fish and wildlife agency of the fifty States and the District of Columbia, the Commonwealth of Puerto Rico, the Commonwealth of the Northern Mariana Islands, Guam, the United States Virgin Islands, and American Samoa. Grants must be for the surveying and planning for installing pumpout/dump stations, and to fund the construction and renovation or maintenance of pumpout/dump stations to be used by recreational vessels, for the purpose of preventing recreational boat sewage from entering U.S. waters. Educational activities are also eligible for funding.

Outreach and Communications Projects [Recreational Boating and Fishing Foundation (RBFF)]: Any State fish and wildlife agency of the 50 States and the District of Columbia, the Commonwealth of Puerto Rico, the Commonwealth of the Northern Mariana Islands, Guam, the United States Virgin Islands, and American Samoa. These grants are to improve communications with anglers, boaters, and the general public regarding angling and boating opportunities, to reduce barriers to participation in these activities, to advance adoption of sound fishing and boating practices, to promote conservation and the responsible use of the Nation's aquatic resources, and to further safety in fishing and boating.

Boating Infrastructure: Any State fish and wildlife agency of the 50 States as designated by the State government and the District of Columbia, the Commonwealth of Puerto Rico, the Commonwealth of the Northern Mariana Islands, Guam, the United States Virgin Islands, and American Samoa. The purpose of the Boating Infrastructure Grant Program is to provide funds to States for the development and maintenance of facilities for transient nontrailerable recreational vessels.

Partnerships for Wildlife: Any State fish and wildlife agency of the 50 States and the District of Columbia, the Commonwealth of Puerto Rico, the Commonwealth of the Northern Mariana Islands, Guam, the United States Virgin Islands, and American Samoa in partnership with third parties. The purpose of these projects must be to: Inventory fish and wildlife species; determine and monitor the size, range, and distribution of populations of fish and wildlife species; identify the extent, condition, and location of the significant habitats of fish and wildlife species; identify the significant problems that may adversely affect fish and wildlife species and their significant habitats; take actions to conserve fish and wildlife species and their habitats; or take action which the principal purpose is to provide opportunities for the public to use and enjoy fish and wildlife through nonconsumptive activities. This program applies to any wild members of the animal kingdom that are in an unconfined state, except animals that are: (1) taken for recreation, fur, or food; (2) Federally listed as endangered or threatened species under the Endangered Species Act; or (3) marine mammals defined by the Marine Mammal Protection Act.

Endangered Species Section 6 Grants: Any State agency that has a cooperative agreement with the Secretary of the Interior, as well as the Commonwealth of Puerto Rico; the Commonwealth of the Northern Mariana Islands; Guam; the United States Virgin Islands; and American Samoa. The purpose of the Endangered Species Section 6 Grants program is to provide Federal financial assistance to any State, through its appropriate agency, which has entered into a cooperative agreement to assist in the development of programs for the conservation of endangered and threatened species. Currently, all 50 States, D.C. and the insular territories have such an agreement. Eligible activities include all types of projects (including land acquisition) with the potential of restoring a threatened or endangered species, monitoring of a candidate species or monitoring of a recovered species.

Grant Programs

Wildlife Restoration Act

• Restore and manage wild birds and wild mammals

• Provide for public use of and access to wild birds and wild mammals

• Provide hunter education

• Funded by hunters and recreational shooters

• Outreach

Sport Fish Restoration Act

• Restore and manage sport fish

• Provide for public use of and access to sport fish

• Provide aquatic education

• Funded by anglers and recreational boaters

• Outreach

Coastal Wetlands Planning, Protection and Restoration Act

• Acquire coastal wetlands

• Restore or enhance coastal wetlands' ecosystems

• Provide long-term conservation of coastal lands and waters

• Funded by Sport Fish Restoration account

Endangered Species Act

• Acquisition, enhancement and protection of habitat

• Recovery and conservation of species

• Surveys and research

• Funded under Section 6 of the Act through Congressional appropriation

Partnerships for Wildlife Act

• Inventory and conserve nongame species

• Provide watchable wildlife recreational and educational opportunities

• Identify and manage species and their habitats

• Funded by Congressional appropriations and State and private partners

Clean Vessel Act

• Survey needs and make plans

• Construct and maintain pumpouts and dump stations

• Educate boaters on use of facilities and impacts of overboard discharge

• Funded by Sport Fish Restoration account

And Grant Types

• Coordination—supports administrative activities of Federal Aid Program

• Strategic Plans and Comprehensive Management Systems (CMS)

—permits implementation of grant funding under either of two funding options:

(1) strategic plan for sport fish and/or wildlife resource management or

(2) CMS for all or part of a State agency's resource management

—allows for funding a grant to develop either of the two funding options above

• Land Acquisition—provides for acquisition of lands, waters, or access

• Operations and Maintenance—provides for operations and maintenance of facilities supporting federal aid objectives

• Development

—Population Management—supports restoration and management of sport fish and wildlife populations through stocking or transplant efforts

—Habitat Management—supports creation and improvement of habitat for sport fish and wildlife populations

—Facilities Construction—supports activities providing public access to or enhancing public use of wildlife or sport fish resources, and supports development of facilities for educational or administrative purposes that further federal aid objectives

• Research—supports research on sport fish and wildlife management issues

• Surveys and Inventories—supports surveys of sport fish and wildlife populations

• Hunter and Aquatic Education

—Educates hunters to be responsible

—Provides education or training on aquatic resources

—Supports construction of educational facilities

—Supports construction of shooting ranges

• Technical Guidance—provides technical guidance to other government agencies and private entities

• Outreach [Recreational Boating and Fishing Foundation (RBFF)]—ensures stakeholders are informed about the Federal Aid Program

Part 4

A. Instructions

(1) Agencies shall use the following standard application forms when applying for Federal Aid Grants. These forms, in PDF fillable/printable format, can be found at the Federal Aid Training Program webpage at http://www.nctc.fws.gov/fedaid/toolkit/toolkit.pdf. At your request, the Regional Office will mail a diskette or CD with fillable forms in PDF format for your use on any personal computer and printer.

Application

SF-424 Face Sheet,

and as appropriate:

SF-424A Budget Information (Non-Construction)

SF-424B Standard Assurances (Non-Construction)

SF-424C Budget Information (Construction)

SF-424D Standard Assurances (Construction)

Financial

SF-269

SF-270

Lobbying

SF-LLL

Other Assurances

DI-2010

National Environmental Policy Act Compliance

Endangered Species Act Section 7 Compliance

National Historic Preservation Act Compliance

Suspension and Debarment Certification

Drug Free Environment Certification

And The Following U.S. Fish and Wildlife Service Forms As Applicable

3-1552 Grant Agreement (OMB Approval 1018-0049)

3-1591 Amendment to Grant Agreement (OMB Approval 1018-0049)

Complete the SF-424 face sheet and the appropriate parts, SF-424B assurances for nonconstruction projects and SF-424D assurances for construction projects.

A Grant Agreement (3-1552) or Amendment to Grant Agreement (3-1591) form is required for all grants. Complete and have it signed by an Agency Official authorized to do so and include it with all grant proposal submissions.

Usually volunteer services are used for in-kind match. These are specific requirements to document the value of this on the SF-424, in budget/cost info, and in performance reports. See 43 CFR 12.64 for specific guidance on in-kind match, especially how to calculate the value of volunteer services used as in-kind. There are also specific requirements in 43 CFR 12.64 for time accounting and documentation of volunteer time.

Part 5

A preapplication shall be used for all construction, land acquisition and land development projects or programs when the need for Federal funding exceeds $100,000, unless the Federal agency determines that a preapplication is not needed. A preapplication is used to:

(a) Establish communication between the agency and the applicant,

(b) Determine the applicant's eligibility,

(c) Determine how well the project can compete with similar projects from others, and

(d) Discourage any proposals that have little or no chance for Federal funding before applicants incur significant costs in preparing detailed applications.

Budgets

Applicants shall use the appropriate Budget Information and Standard Assurances on the SF-424 for either construction or non-construction projects. They shall use the construction version when the major purpose of the project or program is construction, land acquisition or land development.

Budgets shall provide an estimated total by project objective and should match the objectives described in the proposal (see instructions for proposals below). Budget estimates are entered on the Grant Agreement 3-1552 or the Amendment to Grant Agreement 3-1591, the obligating documents.

Attach a schedule listing projects and dollar amounts within a grant. The total from the schedule should match the total on the Grant Agreement or Amendment to Grant Agreement.

Example:

(Name of Grant) Grant XX FY-XX

Grant Number XX

Start Date ____ End Date____

Project | Estimated cost
A O&M | WR 600,000
B Habitat improvement | SFR 250,000
C Construction | BA 20,000
Total | ¹ 870,000
WR=Regular Wildlife Restoration.
SFR=Regular Sport Fish Restoration.
BA=SFR, Boating Access.
¹ This total goes to Grant Agreement or Amendment.

Grant Proposals

Applicants should include a program narrative statement for each separate project under a grant proposal which is based on the following instructions:

(a) Objectives and need for assistance. Pinpoint any relevant physical, economic, social, financial, institutional, or other problems requiring a solution. Demonstrate the need for the assistance and state the principal and any subordinate objectives of the project. Supporting documentation or other testimonies from concerned interests other than the applicant may be used. Any relevant data based on planning studies should be included, footnoted, or referenced.

(b) Results or benefits expected. Identify costs and benefits to be derived. For example, show how the facility will be used. For land acquisition or development projects, explain how the project will benefit the public. For all projects list benefits and to whom or what resource, and quantify them in a standard measure such as dollars, acres, miles . . . etc.

(c) Approach. Outline a plan of action pertaining to the scope and detail how the proposed work will be accomplished for each assistance program. Cite factors which might accelerate or decelerate the work and reasons for taking this approach as opposed to others. Describe any unusual features of the project, such as design or technological innovations, reductions in cost or time, or extraordinary social and community involvements. Provide for each assistance program quantitative projections of the accomplishments to be achieved and target dates for completion, if possible. When accomplishments cannot be quantified, list the activities in chronological order to show the schedule of accomplishments and target expected completion dates. Identify the kinds of data to be collected and maintained, and discuss the criteria to be used to evaluate the results and success of the project. Explain the methodology that will be used to determine if the needs identified and discussed are being met and if the results and benefits identified are being achieved. List each organization, cooperator, consultant, or other key individuals who will work on the project along with a short description of the nature of their effort or contribution.

(d) Geographic location. Give a precise location of the project and area to be served by the proposed project. Maps or other graphic aids may be attached. Add latitude and longitude where possible, this is required for all site specific development, such as boating access, construction, or land acquisition projects.

(e) If applicable, provide the following information:

(1) For research and demonstration assistance requests, present a biographical sketch of the program director with the following information: name, address, telephone number, background, and other qualifying experience for the project. Also, list the name, training and background for other key personnel engaged in the project.

(2) Describe the relationship between this project and other work planned, anticipated, or underway under Federal assistance.

(3) Explain the reason for all requests for supplemental assistance and justify the need for additional funding. Discuss accomplishments to date and list in chronological order a schedule of accomplishments, progress or milestones anticipated with the new funding request. If there have been significant changes in the project objectives, location, approach or time delays, explain and justify.

(4) For other requests for changes, or amendments, explain the reason for the change(s). If the scope or objectives have changed or an extension of time is necessary, explain the circumstances and justify. If the total budget has been exceeded or if the individual budget items have changes more than the prescribed limits, explain and justify the change and its effect on the project.

(f) For the following types of programs, the Regional Office may request the following additional information:

Additionally for:

1. Federal Aid in Wildlife Restoration: For Hunter Education grants, “If the work includes the construction of training facilities such as ranges, provide a description of each facility by type, capacity, and cost.”

2. Boating Infrastructure Projects: How does this project benefit the public and how is that benefit measured; the BIG programs requires that applicants submit a Schedule of Fees, providing the fees for public use of facilities constructed with BIG funds; proposals will need to respond to the ranking criteria in 50 CFR 86.60.

3. Partnerships for Wildlife Projects: Describe the partnership involved in this project and what their relative contribution to the partnership is;

4. All lands acquisition projects, regardless of program must include: Environmental Compliance, Legal Description of the Property, An Appraisal, A Review Appraisal, Statement of Just Compensation, Purchase Option/Agreement, and, after the property has been purchased and the Grant closed, a Title Insurance Policy or Title Certificate. If application is made under one of the exceptions listed in 49 CFR 24, evidence of compliance with the exception must be provided.

5. Section 6 of the Endangered Species Act: Prerequisites for participation in grants under Sec. 6 are that the State establishes and maintains an adequate and active program for the conservation of endangered and threatened species [50 CFR 81.2], and has entered into a Cooperative Agreement with the Secretary of the Interior [50 CFR 81.3] which must be renewed annually. Federal payments shall not exceed 75 percent of the program costs, except when two or more states having a common interest in one or more endangered or threatened species and may enter jointly into an agreement with the Secretary, and thereby increase the Federal share to 90% [50 CFR 81.8].

6. Surveys and Inventory: Address each of the following factors.

a. Adequacy: Are the data answering the decision-makers' questions? The review should evaluate whether the date acquired from the survey are actually meeting the stated purpose. Analysis of trend data will identify whether data being collected are sufficient in answering the agency's management questions or whether data gaps exist. Timeliness of data collection, analysis and availability is important.

b. Necessity: Are the data used by decision makers? In determining the necessity of a particular survey, consideration should be given to what data are actually being collected and their use in management decisions. Survey utility should be considered in the context of the agency's data needs, given necessary prioritization and allocation of staff and monetary resources.

c. Reliability: Are the decision makers confident in the data? Survey design should be based on sound science and key results should be statistically reliable. A review of the literature will show whether the methodology is still current or if there are other state-of-the-art techniques that might prove more suitable. Validity of the survey approach and whether assumptions are met should be considered as well as whether sample sizes are sufficient to achieve desired levels of precision.

d. Efficiency: Are the data being collected in a cost efficient manner? Data collection is costly, both in staff time and dollars expended. The cost of data collection and analysis should be assessed relative to applicability and use of the data by decision makers.

7. All projects must meet all applicable NEPA, Endangered Species Act (Section 7), and National Historic Preservation Act requirements. Information will be collected as mandated under those Acts to satisfy compliance requirements. (This burden is included in the 80 hour estimate per application.)

BILLING CODE 4310-55-M

BILLING CODE 4310-55-C

Part 6—Financial and Accomplishment and Financial Reporting

Accomplishment and Performance

Accomplishment and Performance reports shall compare the proposed work, approved as part of the Grant Agreement, with the actual work accomplished, any deviation, including, but not limited to, cost, time, quality, or quantity shall be reported.

Financial Reports

Grantees shall use the SF-269 series documents provided by our Regional Offices, on our website, diskette or CD.

Payment

How do grantees get paid? Payments are made only to grantee officials authorized to enter into grant agreements and request funds. Payments to grantees are made for the Federal share of allowable costs incurred by the grantee in accomplishing approved grants. All payments are subject to final determination of allowability based on audit.

a. Requests for payments by check are submitted on Standard Form SF-270 Request for Reimbursement. Grantees must submit a SF-270 and supporting documentation to the FWS Project Leader, who will review, approve, and forward to USFWS Finance for processing the payment.

Note: Grantees will be told at the time the grant is issued if they are a regular or special grantee.

b. For regular grants, payments within 24 hours by Electronic Fund Transfer (EFT) from the grantor are accomplished by completing a SF-1199A Direct Deposit Sign Up Form and forwarding it to Health and Human Services (address at FWS Regional Offices) for authorization in the payment management system SMARTLINK. Requests for payment are submitted by grantee directly to SMARTLINK, payment is monitored/authorized by the FWS Regional Office.

c. For special grants, payments within 24 hours by Electronic Fund Transfer (EFT) from the grantor are accomplished by completing a SF-1199A Direct Deposit Sign Up Form and forwarding it to Health and Human Services (address at FWS Regional Offices) for authorization in the payment management system SMARTLINK. Funds are then requested by submitting through FAX or E-mail an invoice/request for review and approval by the FWS project leader. After approval is received, the grantee may request funds electronically through SMARTLINK.

Part 7

The U.S. Fish and Wildlife Service (Service), Division of Federal Aid awards grants to successful applicants from States and certain other entities to benefit fish and wildlife resources. Applications may be mailed to the following addresses for review by the Regional office serving your need.

Region 1: AS-CA-GU-HI-ID-NV-OR-MP-WA | U.S. Fish and Wildlife Service, 911 NE 11th Avenue, Portland, OR 97232-4181 | Comm: (503) 231-6128, FAX: (503) 231-6996.
Region 2: AZ-NM-OK-TX | U.S. Fish and Wildlife Service, P.O. Box 1306, Albuquerque, NM 87103-1306 OR 625 Silver SW, Suite 325, Albuquerque, NM 87102 | Comm: (505) 248-7450, FAX: (505) 248-7471.
Region 3: IA-IL-IN-MI-MN-MO-OH-WI | U.S. Fish and Wildlife Service, 1 Federal Drive, Ft. Snelling, MN 55111-4056 | Comm: (612) 713-5130, FAX: (612) 713-5290.
Region 4: AL-AR-FL-GA-KY-LA-MS-NC-PR-SC-TN-VI | U.S. Fish and Wildlife Service, 1875 Century Blvd., Suite 324, Atlanta, GA 30345 | Comm: (404) 679-4159, FAX: (404) 679-4160.
Region 5: CT-DC-DE-MA-MD-ME-NH-NJ-NY-RI-VA-VT-WV-PA | U.S. Fish and Wildlife Service, 300 Westgate Center Drive, Hadley, MA 01035-9589 | Comm: (413) 253-8508, FAX: (413) 253-8487.
Region 6: CO-KS-MT-ND-NE-SD-UT-WY | U.S. Fish and Wildlife Service, P.O. Box 25486, Denver Federal Center, Denver, CO 80225 OR Lake Plaza North Bldg., 134 Union Blvd., 4th Floor, Lakewood, CO 80228 | Comm: (303) 236-7392, FAX: (303) 236-8192.
Region 7: AK | U.S. Fish and Wildlife Service, 1011 East Tudor Road, Anchorage, AK 99503 | Comm: (907) 786-3435, FAX: (907) 786-3575.
Washington, D.C.: National Issues and Program Coordination | U.S. Fish and Wildlife Service, 4401 N. Fairfax Drive, Suite 140, Arlington, VA 22203 | Comm: (703) 358-2156, FAX: (703) 358-1837.

Dated: August 29, 2000.
Rebecca A. Mullin,
U.S. Fish and Wildlife Service Information Collection Officer.

[FR Doc. 00-22597 Filed 9-1-00; 8:45 am]

BILLING CODE 4310-55-M